DEPARTMENT OF STATE

[Delegation of Authority No. 336]

Delegation of Authority by the Deputy Director of U.S. Foreign Assistance to the Managing Director of the Office of U.S. Foreign Assistance

By virtue of the authority vested in the Secretary of State, including Section 1 of the State Department Basic Authorities Act, as amended (22 U.S.C. 2651a), and delegated to me by the Deputy Secretary of State in Delegation of Authority 307-1, I hereby delegate to the Managing Director of the Office of U.S. Foreign Assistance, to the extent authorized by law, all authorities and functions vested in the Deputy Director of Foreign Assistance by Delegation of Authority 307-1.

Notwithstanding this delegation of authority, any function or authority delegated by this Delegation may be exercised by the Secretary, the Deputy Secretary, the Deputy Secretary for Management and Resources, or the Deputy Director of U.S. Foreign Assistance. Any reference in this delegation of authority to any statute or delegation of authority shall be deemed to be a reference to such statute or delegation of authority as amended from time to time.

This delegation of authority shall be published in the Federal Register.

Dated: April 15, 2011.
Robert H. Goldberg,
Deputy Director of U.S. Foreign Assistance.

[FR Doc. 2011-12367 Filed 5-18-11; 8:45 am]

BILLING CODE 4710-10-P